DEPARTMENT OF TRANSPORTATION

Office of the Secretary

[Docket No. DOT-OST—2019-0184]

National Freight Strategic Plan: Request for Information

ACTION: Request for information (RFI).

SUMMARY: The safe and efficient movement of freight is vital to the Nation's economic growth and to the creation of well-paying jobs for millions of Americans. The Fixing America's Surface Transportation (FAST) Act required DOT to develop a National Freight Strategic Plan (NFSP) that includes eleven statutorily required components to address multimodal freight transportation. The Department of Transportation (DOT) seeks information from the public, including stakeholders (e.g., State and local agencies, private owners and operators, industry trade groups, shippers and beneficial cargo owners, etc.) to aid development of the NFSP.

DATES: Comments must be received on or before February 10, 2020. DOT will consider comments filed after this date to the extent practicable.

ADDRESSES: You may submit comments identified by DOT Docket Number OST-2019-0184 by any of the following methods:

• Electronic Submission: Go to http://www.regulations.gov. Search by using the docket number (provided above). Follow the instructions for submitting comments on the electronic docket site.

• Mail: Docket Management Facility; U.S. Department of Transportation, 1200 New Jersey Avenue SE, Room PL-401, Washington, DC 20590-0001.

• Hand Delivery: Room PL-401 of the Department of Transportation, 1200 New Jersey Avenue SE, Washington, DC, between 9 a.m. and 5 p.m., Monday through Friday, except Federal Holidays.

Instructions: All submissions must include the agency name and docket numbers.

Note: All comments received, including any personal information, will be posted without change to the docket and is accessible via http://www.regulations.gov. Input submitted online via www.regulations.gov is not immediately posted to the site. It may take several business days before your submission is posted.

FOR FURTHER INFORMATION CONTACT: Ryan Endorf at ryan.endorf@dot.gov or at 202-366-4835.

SUPPLEMENTARY INFORMATION:

Background

The nation's freight transportation system is a complex network of almost seven million miles of highways, railways, navigable waterways, and pipelines. The components of this network are linked through hundreds of seaports, airports, and intermodal facilities. This system accommodates the movement of raw materials and finished products from the entire spectrum of the agricultural, manufacturing, energy, retail, and other sectors of the United States' economy.

The Moving Ahead for Progress in the 21st Century Act (MAP-21; Pub. L. 112-141) required DOT to develop a National Freight Strategic Plan (NFSP). On October 18, 2015, DOT issued the draft NFSP (compliant with the MAP-21 requirements) for public comment, available at www.transportation.gov/freight and at http://www.regulations.gov/#!docketDetail;D=DOT-OST-2015-0248. On December 4, 2015, the President signed the FAST Act (Pub. L. 114-94) into law. Section 8001 of the FAST Act continues the requirement that the DOT develop an NFSP, expanding the focus to include a multimodal approach.

The FAST Act required DOT to develop a National Freight Strategic Plan (NFSP) that included (1) an assessment of the condition and performance of the National Multimodal Freight Network; (2) forecasts of freight volumes for the succeeding 5-, 10-, and 20-year periods; (3) an identification of major trade gateways and national freight corridors that connect major population centers, trade gateways, and other major freight generators; (4) an identification of bottlenecks on the National Multimodal Freight Network that create significant freight congestion, based on a quantitative methodology developed by the Under Secretary, which shall include at a minimum—(a) information from the Freight Analysis Framework (FAF); and (b) to the maximum extent practicable, an estimate of the cost of addressing each bottleneck and an operational improvements that could be implemented; (5) an assessment of statutory, regulatory, technological, institutional, financial, and other barriers to improved freight transportation performance, and a description of opportunities for overcoming those barriers; (6) a process for addressing multistate projects and encouraging jurisdictions to collaborate; (7) strategies to improve freight intermodal connectivity; (8) an identification of corridors providing access to energy exploration, development, installation, or production areas; (9) an identification of corridors providing access to major areas for manufacturing, agriculture, or natural resources; (10) an identification of best practices for improving the performance of the National Multimodal Freight Network, including critical commerce corridors and rural and urban access to critical freight corridors; and (11) an identification of best practices to mitigate the impacts of freight movement on communities.

A national freight strategy will be helpful to inform infrastructure planning and to support future freight efficiencies. The safe and efficient movement of freight is vital to the Nation's economic growth and to the creation of well-paying jobs for millions of Americans. In 2015, the U.S. transportation system moved approximately 49 million tons of freight per day worth more than $52 billion and DOT estimates 13.3 million people were employed in transportation or transportation-related industries in 2017. DOT estimates the net value of U.S. transportation capital to be $7.7 trillion in 2016 with the public sector owning $4.2 trillion and the private sector owning $3.5 trillion. DOT estimates that freight tonnage will increase by 44 percent between 2015 and 2045 which will place increasing strain on our Nation's freight system. Today, that freight system moves approximately 18 billion tons of freight every year across all the modes, but congestion has been increasing, particularly on our Nation's highways. The trucking industry experienced almost 1.2 billion hours of delay in 2016 because of traffic congestion on the National Highway System, at a cost of $34 billion in truck driver wages, not including wasted fuel and increased inventory carrying costs for affected shippers and beneficial cargo owners (BCOs). Prior to 2005, virtually all crude oil was moved via pipeline; however, by 2011, rail shipments of crude oil have increased substantially and increases in domestic energy production, including increased liquefied natural gas movements will require more interplay between pipelines, rail, and tanker/barge movements. Air cargo transportation is particularly important for high value commodities, such as electronics and pharmaceuticals, and the FAF projects air cargo to be the fastest growing freight mode with annual tonnage growth of 4.3 percent.

Rural and urban citizens and businesses depend on the safe and efficient movement of freight. Many agricultural, energy, raw inputs, and other natural resources to our manufacturing products originate in rural areas, such as farm commodities, coal and other fuel inputs, and raw materials. Approximately two-thirds of freight tonnage shipped by rail in the U.S. originates in rural areas. Urban areas drive domestic freight demand and depend on reliable deliveries from ports and railroads by trucks via freight intermodal connectors to meet that demand. To safely and efficiently deliver goods to consumers, freight supply chains have become increasingly complex and shippers and BCOs are reliant on the interplay between multiple transportation modes. More than ever, transportation planning and infrastructure investment, particularly for freight, must be considered within the broader systems context that accounts for all modes and both public- and private-sector actors to retain the United States' global competitive advantage.

DOT recognizes the importance of engaging with the public and private industry to develop a clear, national vision for freight transportation that is inclusive of both public- and private-sector perspectives. Through State Freight Plans, all fifty States and the District of Columbia have contemplated the importance and impacts of freight movement to their local and regional economy and have developed infrastructure investment plans to improve freight flows across their States. As daily users of the system, private sector and non-public perspectives are vital inputs for understanding operational challenges along the freight system.

DOT seeks information directly from the public and stakeholders to inform development of this national freight strategy. DOT seeks comments and relevant information on any of the eleven statutorily defined plan components (as noted above); in addition, DOT specifically requests comments and data in response to the following questions:

1. What are the three most important challenges facing the U.S. freight transportation system?

2. What should be long- and short-term national freight system goals? How can States, local agencies, and private stakeholders most effectively advance these national goals?

3. How should DOT measure freight transportation system performance? In your response, consider both safety and efficiency, as well as performance thresholds across multimodal metrics (i.e., hours of delay, infrastructure conditions, planning time index) that represent untenable performance for the public or private sector. Consider how performance metrics could be employed to inform DOT's discretionary grant programs.

4. What industry freight-specific knowledge is critical to understanding supply chains and how economic trends impact freight logistics and cargo movements? How can such data and/or knowledge be procured or shared amongst public and private sector partners? Are there technological innovations, such as Blockchain and the Internet of Things (IoT), that DOT should know about?

5. What should be considered regarding vital operational or equipment innovations, emerging technology advances from research communities, as well as infrastructure or facility concepts in freight transportation?

6. What approach should the federal government use to invest in the multimodal freight system? How would this approach apply to each transportation mode, for freight in general, for specific industries, or for freight assets owned by the private sector (i.e., rail, pipelines, maritime)? What are best practices for identifying projects that involve both public and private sector assets and for encouraging communication between the public and private sector to complete those projects?

7. What barriers (such as regulatory, technological, institutional, statutory) are critical to freight efficiency that DOT should better understand? Please consider which of these affect freight origination and/or destination areas, as well as intermodal transfers, and describe the root causes of the inefficiencies.

8. What information is critical to understanding the unique infrastructure and operational freight impacts faced by local communities? Please detail any best practices in economic development and planning processes that support freight intensive activity or innovative financing. Describe current and prospective infrastructure safety enhancements that should be considered.

9. How would you define a bottleneck in your industry? (Consider both surface and maritime transportation).

10. What else should DOT consider (including the eleven statutory criteria listed above) or do to improve freight transportation in the U.S.?

Public Comment

The DOT invites comments by all those interested in the draft National Freight Strategic Plan. Comments on the draft NFSP may be submitted and viewed at Docket Number DOT-OST-2019-0184. The web address is: XXXXXX. Comments must be received on or before [45 days from posting of this notice] to receive full consideration by DOT with respect to the final NFSP. After [45 days from posting of this notice], comments will continue to be available for viewing by the public.

Dated: December 19, 2019.
Joel Szabat,
Acting Under Secretary Transportation for Policy.

[FR Doc. 2019-27897 Filed 12-26-19; 8:45 am]

BILLINGCODE 4910-9X-P